SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: November 1-30, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f)

1. LPR Energy, LLC; Pad ID: Davis Drilling Pad #1; ABR-201007067.R2; West Clair Township, Bedford County, Pa.; Consumptive Use of Up to 2.0000 mgd; Approval Date: November 11, 2020.

2. Pennsylvania General Energy Company, L.L.C.; Pad ID: COP Tract 729 Pad D; ABR-201008052.R2; Cummings Township, Lycoming County, Pa.; Consumptive Use of Up to 3.0000 mgd; Approval Date: November 11, 2020

3. Pennsylvania General Energy Company, L.L.C.; Pad ID: COP Tract 729 Pad C; ABR-201008051.R2; Cummings Township, Lycoming County, Pa.; Consumptive Use of Up to 3.0000 mgd; Approval Date: November 11, 2020.

4. Repsol Oil & Gas USA, LLC; Pad ID: ROY (03 062) L; ABR-201008089.R2; Wells Township, Bradford County, Pa.; Consumptive Use of Up to 6.0000 mgd; Approval Date: November 11, 2020.

5. Rockdale Marcellus, LLC; Pad ID: Swingle 725; ABR-201007129.R2; Canton Township, Bradford County, Pa.; Consumptive Use of Up to 4.0000 mgd; Approval Date: November 11, 2020.

6. Seneca Resources Company, LLC; Pad ID: Bauer 849; ABR-201008032.R2; Middlebury Township, Tioga County, Pa.; Consumptive Use of Up to 4.0000 mgd; Approval Date: November 11, 2020.

7. Seneca Resources Company, LLC; Pad ID: Fuleihan 417; ABR-201008073.R2; Delmar Township, Tioga County, Pa.; Consumptive Use of Up to 4.0000 mgd; Approval Date: November 11, 2020.

8. Repsol Oil & Gas USA, LLC; Pad ID: DETWEILER (02 100) R; ABR-201008023.R2; Covington Township, Tioga County, Pa.; Consumptive Use of Up to 6.0000 mgd; Approval Date: November 16, 2020.

9. Repsol Oil & Gas USA, LLC; Pad ID: DCNR 594 (02 205); ABR-201008040.R2; Bloss Township, Tioga County, Pa.; Consumptive Use of Up to 6.0000 mgd; Approval Date: November 16, 2020.

10. Repsol Oil & Gas USA, LLC; Pad ID: DCNR 587 (02 019); ABR-201008072.R2; Ward Township, Tioga County, Pa.; Consumptive Use of Up to 6.0000 mgd; Approval Date: November 16, 2020.

11. Seneca Resources Company, LLC; Pad ID: Sticklin 510; ABR-201007113.R2; Delmar Township, Tioga County, Pa.; Consumptive Use of Up to 4.0000 mgd; Approval Date: November 16, 2020.

12. Epsilon Energy USA, Inc.; Pad ID: Harold Craige Pad; ABR-202011002; Rush Township, Susquehanna County, Pa.; Consumptive Use of Up to 7.5000 mgd; Approval Date: November 19, 2020.

13. SWN Production Company, LLC; Pad ID: Chamberlin; ABR-201008008.R2; Stevens Township, Bradford County, Pa.; Consumptive Use of Up to 4.9990 mgd; Approval Date: November 19, 2020.

14. ARD Operating, LLC; Pad ID: Nevin L. Smith Pad A; ABR-201008115.R2; Gamble Township, Lycoming County, Pa.; Consumptive Use of Up to 4.0000 mgd; Approval Date: November 19, 2020.

15. Rockdale Marcellus, LLC; Pad ID: Hedrick 702; ABR-201007092.R2; Union Township, Tioga County, Pa.; Consumptive Use of Up to 4.0000 mgd; Approval Date: November 19, 2020.

16. Cabot Oil & Gas Corporation.; Pad ID: WarrinerR P4; ABR-201008123.R2; Dimock Township, Susquehanna County, Pa.; Consumptive Use of Up to 5.0000 mgd; Approval Date: November 19, 2020.

17. Repsol Oil & Gas USA, LLC; Pad ID: AYERS (05 005) K; ABR-201008129.R2; Orwell Township, Bradford County, Pa.; Consumptive Use of Up to 6.0000 mgd; Approval Date: November 20, 2020.

18. Repsol Oil & Gas USA, LLC; Pad ID: STROPE (05 026) G; ABR-201008152.R2; Warren Township, Bradford County, Pa.; Consumptive Use of Up to 6.0000 mgd; Approval Date: November 20, 2020.

19. Repsol Oil & Gas USA, LLC; Pad ID: CARPENTER (03 023) K; ABR-201008141.R2; Columbia Township, Bradford County, Pa.; Consumptive Use of Up to 6.0000 mgd; Approval Date: November 20, 2020.

20. ARD Operating, LLC; Pad ID: Brooks Family Pad A; ABR-201508002.R1; Cascade Township, Lycoming County, Pa.; Consumptive Use of Up to 4.0000 mgd; Approval Date: November 20, 2020.

21. Cabot Oil & Gas Corporation; Pad ID: StockholmK P2; ABR-201008134.R2; Rush Township, Susquehanna County, Pa.; Consumptive Use of Up to 5.0000 mgd; Approval Date: November 20, 2020.oval Date: November 16, 2020.

22. Cabot Oil & Gas Corporation; Pad ID: Maiolini P3; ABR-201008114.R2; Dimock and Auburn Townships, Susquehanna County, Pa.; Consumptive Use of Up to 5.0000 mgd; Approval Date: November 20, 2020.

23. Cabot Oil & Gas Corporation; Pad ID: Teel P2; ABR-201508004.R1; Dimock Township, Susquehanna County, Pa.; Consumptive Use of Up to 5.0000 mgd; Approval Date: November 20, 2020.

24. Cabot Oil & Gas Corporation; Pad ID: KingD P1; ABR-201009010.R2; Dimock Township, Susquehanna County, Pa.; Consumptive Use of Up to 5.0000 mgd; Approval Date: November 20, 2020.

25. Rockdale Marcellus, LLC; Pad ID: Yaggie 704; ABR-201006113.R2; Union Township, Tioga County, Pa.; Consumptive Use of Up to 4.0000 mgd; Approval Date: November 24, 2020.

26. Repsol Oil & Gas USA, LLC; Pad ID: Sparrow Hawk ; ABR-201009044.R2; Covington Township, Tioga County, Pa.; Consumptive Use of Up to 6.0000 mgd; Approval Date: November 24, 2020.

27. Cabot Oil & Gas Corporation; Pad ID: CosnerW P1; ABR-201009047.R2; Springville Township, Susquehanna County, Pa.; Consumptive Use of Up to 5.0000 mgd; Approval Date: November 24, 2020.

28. Greylock Production, LLC; Pad ID: Coldstream Affiliates #1MH; ABR-201007051.R2; Goshen Township, Clearfield County, Pa.; Consumptive Use of Up to 3.0200 mgd; Approval Date: November 25, 2020.

29. Greylock Production, LLC; Pad ID: Whitetail #1-5MH; ABR-201008112.R2; Goshen Township, Clearfield County, Pa.; Consumptive Use of Up to 3.0200 mgd; Approval Date: November 25, 2020.

30. ARD Operating, LLC; Pad ID: COP Tr 685 Pad C; ABR-201009013.R2; Cummings Township, Lycoming County, Pa.; Consumptive Use of Up to 4.0000 mgd; Approval Date: November 25, 2020.

31. BKV Operating, LLC; Pad ID: Baker 2H; ABR-201008137.R2; Forest Lake Township, Susquehanna County, Pa.; Consumptive Use of Up to 5.0000 mgd; Approval Date: November 27, 2020.

32. Chesapeake Appalachia, L.L.C.; Pad ID: Tama; ABR-201010057.R2; North Towanda Township, Bradford County, Pa.; Consumptive Use of Up to 7.5000 mgd; Approval Date: November 27, 2020.

33. Seneca Resources Company, LLC; Pad ID: Hotchkiss 472; ABR-201009045.R2; Charleston Township, Tioga County, Pa.; Consumptive Use of Up to 4.0000 mgd; Approval Date: November 27, 2020.

34. Chesapeake Appalachia, L.L.C.; Pad ID: Folta; ABR-201010044.R2; Tuscarora Township, Bradford County, Pa.; Consumptive Use of Up to 7.5000 mgd; Approval Date: November 30, 2020.

35. Cabot Oil & Gas Corporation; Pad ID: FraserE P1; ABR-201009052.R2; Forest Lake Township, Susquehanna County, Pa.; Consumptive Use of Up to 5.0000 mgd; Approval Date: November 30, 2020.

36. Seneca Resources Company, LLC; Pad ID: Klettlinger 294; ABR-201009054.R2; Delmar Township, Tioga County, Pa.; Consumptive Use of Up to 4.0000 mgd; Approval Date: November 30, 2020.

37. Chesapeake Appalachia, L.L.C.; Pad ID: Norton; ABR-201011008.R2; Elkland Township, Sullivan County, Pa.; Consumptive Use of Up to 7.5000 mgd; Approval Date: November 30, 2020.

38. Chesapeake Appalachia, L.L.C.; Pad ID: Penecale; ABR-201011060.R2; North Branch Township, Wyoming County, Pa.; Consumptive Use of Up to 7.5000 mgd; Approval Date: November 30, 2020.

39. Chesapeake Appalachia, L.L.C.; Pad ID: Taylor; ABR-201011034.R2; Orwell Township, Bradford County, Pa.; Consumptive Use of Up to 7.5000 mgd; Approval Date: November 30, 2020.

40. Chesapeake Appalachia, L.L.C.; Pad ID: Zaleski; ABR-201011021.R2; Asylum Township, Bradford County, Pa.; Consumptive Use of Up to 7.5000 mgd; Approval Date: November 30, 2020.

(Authority: Pub. L. 91-575, 84 Stat. 1509 et seq., 18 CFR parts 806, 807, and 808.)

Dated: December 15, 2020.
Jason E. Oyler,
General Counsel and Secretary to the Commission.

[FR Doc. 2020-27960 Filed 12-17-20; 8:45 am]

BILLING CODE 7040-01-P